CORPORATION FOR NATIONAL AND COMMUNITY SERVICE

45 CFR Chapter XXV

AmeriCorps State and National, Senior Corps, and Learn and Serve

AGENCY: Corporation for National and Community Service.

ACTION: Notice inviting preliminary informal public input in advance of rulemaking on criminal background checks for AmeriCorps State/National, Senior Corps, and Learn and Serve America grant programs.

SUMMARY: The Corporation for National and Community Service (the Corporation) invites public input regarding a Corporation requirement that grantees conduct and document criminal background checks on grant-funded employees and participants who, on a recurring basis, have access to children and other vulnerable populations, including the elderly and individuals with disabilities. In addition, the Corporation seeks input concerning whether any category of individuals should, on the basis of their criminal histories, be disqualified from working or participating in a Corporation-funded project in which they have such access.

We will consider input submitted in writing, as described below, or orally in one of two conference calls we will hold on the dates listed below. The Corporation will not respond formally to this input, but will consider it in drafting any Notice of Proposed Rulemaking. The public will have a separate opportunity to provide formal comment on any proposed rule the Corporation publishes for comment in 2005 or thereafter.

DATES: Please submit written input to the Corporation as soon as possible. In addition, the Corporation will hold conference calls on this topic on October 21, 2005 and October 28, 2005. See Supplementary Information for conference call information.

ADDRESSES: You may submit written input to the Corporation by any of the following methods:

(1) Electronically through the Corporation's e-mail address system to tbryant@cns.gov.

(2) By fax to 202-606-3467, Attention Tom Bryant, Associate General Counsel.

(3) By mail sent to: Corporation for National and Community Service, Attn: Tom Bryant, Associate General Counsel, 1201 New York Avenue NW., Suite 10600, Washington, DC 20525.

(4) By hand delivery or by courier to the Corporation's mailroom at Room 8410 at the mail address given in paragraph (3) above, between 9 a.m. and 4 p.m. Monday through Friday, except Federal holidays.

Due to continued delays in the Corporation's receipt of mail, we strongly encourage responses via e-mail or fax. You may request this notice in an alternative format for the visually impaired.

FOR FURTHER INFORMATION CONTACT: For further information about the substance of this notice, or for information about the conference calls, contact Tom Bryant at (202) 606-6678 (tbryant@cns.gov). The TDD/TTY number is (800) 833-3722.

SUPPLEMENTARY INFORMATION: Many national and community service programs are dedicated to helping children learn to read, giving at-risk children better opportunities to thrive, helping the elderly maintain their independence, and otherwise serving vulnerable individuals. With that commitment comes the responsibility to safeguard the well-being of program beneficiaries, including thorough effective screening of staff, participants, and volunteers in each program. Several years ago, a Corporation-sponsored technical assistance provider published the Staff Screening Tool Kit, 2nd Edition with helpful information designed to strengthen an organization's screening process. You may download the Tool Kit at http://www.nationalservice.gov/screeningtoolkit.

Currently, only the AmeriCorps State and National grant program has a criminal background check requirement in its grant provisions. For the 2005-2006 program year, it states as follows:

Criminal Background Checks. Programs with members (18 and over) or grant-funded employees who, on a recurring basis, have access to children (usually defined under state or local law as un-emancipated minors under the age of 18) or to individuals considered vulnerable by the program (i.e. the elderly or individuals who are either physically or mentally disabled), shall, to the extent permitted by state and local law, conduct criminal background checks on these members or employees as part of the overall screening process.

The grantee must ensure, to the extent permitted by state or local law, that it maintains background check documentation for members and employees covered by this provision in the member or employee's file or other appropriate file. The documentation must demonstrate that, in selecting or placing an individual, the grantee or the grantee's designee (such as a site sponsor) reviewed and considered the background check's results.

The Corporation intends to codify a requirement for AmeriCorps through the formal rulemaking process and seeks input on whether the current provision should be maintained or amended.

Senior Corps is comprised of three separate programs: (1) The Foster Grandparent Program (FGP); (2) the Senior Companion Program (SCP); and (3) the Retired Senior Volunteer Program. We intend to codify a requirement for each program through the formal rulemaking process.

The Learn and Serve Program consists of (1) School-Based K-12 Programs; (2) Higher Education Programs, and (3) Community-Based Programs. Given the fact that participants in Learn and Serve programs are generally not individually attributable to a Corporation grant, we are considering whether and to what extent we should codify requirements relating to the screening of staff and participants in Learn and Serve America programs.

The Corporation intends to strengthen its internal procedures for its two Federally-conducted programs, AmeriCorps National Civilian Community Corps and AmeriCorps VISTA, outside the scope of this rulemaking process.

To inform the rulemaking process, the Corporation invites preliminary informal input from the public addressing a criminal background check requirement for grantees. The Corporation specifically invites input on the following questions:

(1) What are the most effective screening practices used by organizations that serve children and other vulnerable populations?

(2) Is recurring access to children and other vulnerable populations (i.e. the elderly or individuals who are either physically or mentally disabled) the most appropriate way to describe the predicate for the background check requirement?

(3) What are the costs associated with conducting criminal background checks?

(4) What are the types and levels of background checks that are available to grantees?

(5) Should the Corporation require grantees to obtain a background check from a specific data base (e.g. state registry or the Department of Justice's National Sex Offender Public Registry at http://www.nsopr.gov)?

(6) Should the Corporation codify a per se disqualification for program participants or staff based upon a particular background check finding?

(7) How should the Corporation balance the goal of including at-risk participants in national and community service programs with the need to ensure appropriate protection for vulnerable populations?

(8) What are efficient and effective ways to document background checks and how should a program document that it considered such a finding of criminal history in selecting or placing an individual?

(9) Are grantees in a particular program category already required by State or local law to have safeguards in this area that obviate or mitigate the need for a separate grant condition?

(10) Does the current language in the AmeriCorps grant provisions appropriately define the scope of the requirement and documentation of compliance?

(11) What safeguards are necessary to protect the privacy of program participants or staff?

(12) What are the best practices to monitor and enforce compliance with requirements relating to the screening of participants?

(13) Where grantees are involved in a variety of programmatic activities, as in the case of RSVP, how should the Corporation identify those programs where volunteers and staff have access to children or other vulnerable individuals on a recurring basis?

(14) To what extent do state and local laws constrain the Corporation from requiring grantees to conduct criminal background checks on national service participants or employees, who, on a recurring basis, have access to children or other vulnerable populations?

(15) How often should a criminal background check be conducted for a national service participant who serves for two or more years?

(16) Are there categories of grantees (e.g. local school districts) for whom a separate Corporation requirement for criminal background checks might not be necessary because the grantee is already independently required to have appropriate applicant screening safeguards in place?

For more information on the Corporation, please visit our Web site at: http://www.nationalservice.gov.

Conference Calls and Public Input

The Corporation is planning two conference calls in October, 2005. The first will be conducted on October 21, 2005, at 3 p.m., e.s.t. and the second on October 28, 2005, also at 3 p.m. e.s.t.

The USA Toll Free Number is 1-888-790-1769. The passcode is 7282715. Each conference call will last approximately 1 hour. Please check our Web site at http://www.nationalservice.gov/about/newsroom/releases_detail.asp?tbl_pr_id=196 for additional or updated information regarding these conference calls, or contact Tom Bryant at tbryant@cns.gov.

Dated: October 11, 2005.
Frank R. Trinity,
General Counsel.

[FR Doc. 05-20652 Filed 10-14-05; 8:45 am]

BILLING CODE 6050-$$-P